DEPARTMENT OF HOMELAND SECURITY

Federal Emergency Management Agency

[Docket ID FEMA-2018-0002]

Final Flood Hazard Determinations

AGENCY: Federal Emergency Management Agency, DHS.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The date of November 2, 2018 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

David I. Maurstad,
Deputy Associate Administrator for Insurance and Mitigation, Department of Homeland Security, Federal Emergency Management Agency.

Community | Community map repository address
Placer County, California and Incorporated Areas
Docket No.: FEMA-B-1610
City of Auburn | Planning and Public Works Department, 1225 Lincoln Way, Auburn, CA 95603.
City of Lincoln | Community Development Department, 600 Sixth Street, Lincoln, CA 95648.
City of Rocklin | Engineering Department, 3970 Rocklin Road, Rocklin, CA 95677.
City of Roseville | Engineering Department, 311 Vernon Street, Roseville, CA 95678.
Town of Loomis | Town Hall, 3665 Taylor Road, Loomis, CA 95650.
Unincorporated Areas of Placer County | Placer County Public Works, 3091 County Center Drive, Auburn, CA 95603.
Alachua County, Florida and Incorporated Areas
Docket No.: FEMA-B-1709
City of Alachua | City Hall, 15100 Northwest 142nd Terrace, Alachua, FL 32615.
City of Gainesville | Public Works Department, 405 Northwest 39th Avenue, Gainesville, FL 32609.
City of Waldo | City Hall, 14655 Kennard Street, Waldo, FL 32694.
Unincorporated Areas of Alachua County | Alachua County Public Works Department, Engineering and Operations, 5620 Northwest 120th Lane, Gainesville, FL 32653.
Bradford County, Florida and Incorporated Areas
Docket No.: FEMA-B-1709
City of Starke | City Clerk's Office, 209 North Thompson Street, Starke, FL 32091.
Unincorporated Areas of Bradford County | Bradford County Building and Zoning Department, 945-F North Temple Avenue, Starke, FL 32091.
Columbia County, Florida and Incorporated Areas
Docket No.: FEMA-B-1709
City of Lake City | City Hall, 205 North Marion Avenue, Lake City, FL 32055.
Unincorporated Areas of Columbia County | Columbia County Public Works Department, 607 Northwest Quinten Street, Lake City, FL 32055.
Duval County, Florida (All Jurisdictions)
Docket No.: FEMA-B-1718
City of Atlantic Beach | City Hall, 800 Seminole Road, Atlantic Beach, FL 32233.
City of Jacksonville | Edward Ball Building, Development Services, Room 2100, 214 North Hogan Street, Jacksonville, FL 32202.
City of Jacksonville Beach | City Hall, 11 North 3rd Street, Jacksonville Beach, FL 32250.
City of Neptune Beach | City Hall, 116 1st Street, Neptune Beach, FL 32266.
Union County, Florida and Incorporated Areas
Docket No.: FEMA-B-1709
City of Lake Butler | City Hall, 200 Southwest 1st Street, Lake Butler, FL 32054.
Town of Worthington Springs | Community Center, 11933 Southwest 36th Drive, Worthington Springs, FL 32697.
Unincorporated Areas of Union County | Union County Building Department, 15277 Southwest 84th Street, Lake Butler, FL 32054.

[FR Doc. 2018-15597 Filed 7-19-18; 8:45 am]

BILLING CODE 9110-12-P